DEPARTMENT OF ENERGY

Federal Energy Regulatory Commission

Combined Notice of Filings #1

Take notice that the Commission received the following electric corporate filings:

Docket Numbers: EC24-114-000.

Applicants: Bridgeport Energy LLC, Essential Power Newington, LLC, Essential Power Massachusetts, LLC, Essential Power OPP, LLC, Essential Power Rock Springs, LLC, Hamilton Liberty LLC, Hamilton Patriot LLC, Hamilton Projects Acquiror, LLC, Lakewood Cogeneration, L.P., Nautilus Power, LLC, Revere Power, LLC, Rumford Power LLC, Tiverton Power LLC.

Description: Joint Application for Authorization Under Section 203 of the Federal Power Act of Bridgeport Energy LLC, et al.

Filed Date: 8/23/24.

Accession Number: 20240823-5213.

Comment Date: 5 p.m. ET 9/13/24.

Take notice that the Commission received the following electric rate filings:

Docket Numbers: ER24-2589-001.

Applicants: Castleton Commodities Energy Services LLC.

Description: Tariff Amendment: Amendment to 1 to be effective 7/26/2024.

Filed Date: 8/27/24.

Accession Number: 20240827-5177.

Comment Date: 5 p.m. ET 9/17/24.

Docket Numbers: ER24-2590-001.

Applicants: Castleton Commodities Energy Trading LLC.

Description: Tariff Amendment: Amendment to 1 to be effective 7/26/2024.

Filed Date: 8/27/24.

Accession Number: 20240827-5180.

Comment Date: 5 p.m. ET 9/17/24.

Docket Numbers: ER24-2858-000.

Applicants: MidAmerican Energy Company.

Description: Consent to Termination of Assignments for Capacity Schedules under the Amended and Restated Operating Agreement of MidAmerican Energy Company.

Filed Date: 8/23/24.

Accession Number: 20240823-5158.

Comment Date: 5 p.m. ET 9/13/24.

Docket Numbers: ER24-2859-000.

Applicants: Interstate Power and Light Company.

Description: Agreement for Consent to Termination of Assignments for Capacity Schedule of Interstate Power and Light Company.

Filed Date: 8/23/24.

Accession Number: 20240823-5161.

Comment Date: 5 p.m. ET 9/13/24.

Docket Numbers: ER24-2870-000.

Applicants: PJM Interconnection, L.L.C.

Description: § 205(d) Rate Filing: GIA Service Agreement No. 7340; X2-012/AA2-008/AF2-140; Cancellation SA No. 3569 to be effective 7/25/2024.

Filed Date: 8/26/24.

Accession Number: 20240826-5139.

Comment Date: 5 p.m. ET 9/16/24.

Docket Numbers: ER24-2871-000.

Applicants: Midcontinent Independent System Operator, Inc.

Description: § 205(d) Rate Filing: 2024-08-26_Joint Targeted Interconnection Queue Framework to be effective 11/14/2024.

Filed Date: 8/26/24.

Accession Number: 20240826-5149.

Comment Date: 5 p.m. ET 9/16/24.

Docket Numbers: ER24-2872-000.

Applicants: Consolidated Edison Company of New York, Inc.

Description: § 205(d) Rate Filing: PASNY Tariff CBC change 8-2024 to be effective 9/1/2024.

Filed Date: 8/27/24.

Accession Number: 20240827-5000.

Comment Date: 5 p.m. ET 9/17/24.

Docket Numbers: ER24-2873-000.

Applicants: Midcontinent Independent System Operator, Inc.

Description: § 205(d) Rate Filing: 2024-08-27_SA 4342 OTP-CED Donaldson Wind GIA (J1575) to be effective 8/15/2024.

Filed Date: 8/27/24.

Accession Number: 20240827-5047.

Comment Date: 5 p.m. ET 9/17/24.

Docket Numbers: ER24-2874-000.

Applicants: Southwest Power Pool, Inc.

Description: § 205(d) Rate Filing: 4263 Ironclad Grid GIA to be effective 8/23/2024.

Filed Date: 8/27/24.

Accession Number: 20240827-5055.

Comment Date: 5 p.m. ET 9/17/24.

Docket Numbers: ER24-2875-000.

Applicants: Southwest Power Pool, Inc.

Description: § 205(d) Rate Filing: 4264 Bison Grid GIA to be effective 8/23/2024.

Filed Date: 8/27/24.

Accession Number: 20240827-5056.

Comment Date: 5 p.m. ET 9/17/24.

Docket Numbers: ER24-2876-000.

Applicants: Southwest Power Pool, Inc.

Description: § 205(d) Rate Filing: 4265 Homer Grid GIA to be effective 8/23/2024.

Filed Date: 8/27/24.

Accession Number: 20240827-5060.

Comment Date: 5 p.m. ET 9/17/24.

Docket Numbers: ER24-2877-000.

Applicants: Mid-Atlantic Interstate Transmission, LLC,PJM Interconnection, L.L.C.

Description: § 205(d) Rate Filing: Mid-Atlantic Interstate Transmission, LLC submits tariff filing per 35.13(a)(2)(iii: MAIT submits One Construction Agreement, SA No. 6944 to be effective 10/27/2024.

Filed Date: 8/27/24.

Accession Number: 20240827-5079.

Comment Date: 5 p.m. ET 9/17/24.

Docket Numbers: ER24-2878-000.

Applicants: Tri-State Generation and Transmission Association, Inc.

Description: § 205(d) Rate Filing: Initial Filing of Service Agreement FERC No. 917 to be effective 7/31/2024.

Filed Date: 8/27/24.

Accession Number: 20240827-5086.

Comment Date: 5 p.m. ET 9/17/24.

Docket Numbers: ER24-2879-000.

Applicants: Keystone Appalachian Transmission Company, PJM Interconnection, L.L.C.

Description: § 205(d) Rate Filing: Keystone Appalachian Transmission Company submits tariff filing per 35.13(a)(2)(iii: KATCo submits One Construction Agreement, SA No. 7164 to be effective 10/27/2024.

Filed Date: 8/27/24.

Accession Number: 20240827-5090.

Comment Date: 5 p.m. ET 9/17/24.

Docket Numbers: ER24-2880-000.

Applicants: Midcontinent Independent System Operator, Inc.

Description: § 205(d) Rate Filing: 2024-08-27_SA 4343 MidAmerican-Plymouth Wind Energy II GIA (J1590) to be effective 8/14/2024.

Filed Date: 8/27/24.

Accession Number: 20240827-5094.

Comment Date: 5 p.m. ET 9/17/24.

Docket Numbers: ER24-2881-000.

Applicants: PJM Interconnection, L.L.C.

Description: Tariff Amendment: Notice of Cancellation of WMPA, SA No. 4841; Queue No. AC2-136 to be effective 6/22/2024.

Filed Date: 8/27/24.

Accession Number: 20240827-5110.

Comment Date: 5 p.m. ET 9/17/24.

Docket Numbers: ER24-2882-000.

Applicants: Halia Energy LLC.

Description: Baseline eTariff Filing: Application for Market-Based Rate Authorization, Request for Related Waivers to be effective 10/27/2024.

Filed Date: 8/27/24.

Accession Number: 20240827-5133.

Comment Date: 5 p.m. ET 9/17/24.

Docket Numbers: ER24-2883-000.

Applicants: ISO New England Inc., New England Power Pool Participants Committee.

Description: § 205(d) Rate Filing: ISO New England Inc. submits tariff filing per 35.13(a)(2)(iii: Revisions to MR1 to Conform Tariff to Implement Day-Ahead Ancillary Services to be effective 10/27/2024.

Filed Date: 8/27/24.

Accession Number: 20240827-5137.

Comment Date: 5 p.m. ET 9/17/24.

Take notice that the Commission received the following electric securities filings:

Docket Numbers: ES24-56-000.

Applicants: Evergy Missouri West, Inc.

Description: Application Under Section 204 of the Federal Power Act for Authorization to Issue Securities of Evergy Missouri West, Inc.

Filed Date: 7/30/24.

Accession Number: 20240730-5205.

Comment Date: 5 p.m. ET 9/6/24.

Take notice that the Commission received the following electric reliability filings:

Docket Numbers: RR24-2-001.

Applicants: North American Electric Reliability Corporation.

Description: Compliance Filing of North American Electric Reliability Corporation in response to 06/27/2024 Order approving revisions to North American Electric Reliability Corporation Rules of Procedure to address unregistered inverter-based resources.

Filed Date: 8/26/24.

Accession Number: 20240826-5123.

Comment Date: 5 p.m. ET 9/16/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 27, 2024.
Debbie-Anne A. Reese,
Acting Secretary.

[FR Doc. 2024-19692 Filed 8-30-24; 8:45 am]

BILLING CODE 6717-01-P